DEPARTMENT OF THE INTERIOR

National Park Service

[NPS-WASO-CONC-28973; PPWOBSADC0, PPMVSCS1Y.Y00000]

Notice of Continuation of Concession Contracts

AGENCY: National Park Service, Interior.

ACTION: Public notice.

SUMMARY: The National Park Service hereby gives notice that, pursuant to the terms of the concession contracts identified in the table below, the National Park Service intends to the contracts for a period of one year beginning on January 1, 2020.

DATES: The contract continuations will begin on January 1, 2020.

FOR FURTHER INFORMATION CONTACT: Kurt Rausch, Acting Chief, Commercial Services Program, National Park Service, 1849 C Street NW, Mail Stop 2410, Washington, DC 20240, Telephone: 202-513-7156.

SUPPLEMENTARY INFORMATION: The concession contracts listed in the table below have been extended for the maximum time allowable under 36 CFR 51.23. Under the provisions of the existing contracts and pending the issuance of prospectuses and the completion of the public solicitation process to award new concession contracts, the National Park Service intends to continue the existing contracts for a period not-to-exceed one year beginning on January 1, 2020. Except for their expiration dates, the terms and conditions of the existing contracts will remain unchanged. The continuation of the existing contracts does not confer or affect any rights with respect to the award of new concession contracts. The publication of this notice reflects the intent of the National Park Service but does not bind the National Park Service to continue any of the contracts listed in the table below.

Park unit | CONCID | Concessioner
Cape Hatteras National Seashore | CAHA001-98 | Koru Village Incorporated.
Glen Canyon National Recreation Area | GLCA002-88 | ARAMARK Sports and Entertainment Services, Inc.
Glen Canyon National Recreation Area | GLCA003-69 | ARAMARK Leisure Services, Inc.
Independence National Historical Park | INDE001-94 | Concepts by Staib, Walter Staib.
Lake Mead National Recreation Area | LAKE001-73 | Rex G. Maughan and Ruth G. Maughan.
Lake Mead National Recreation Area | LAKE002-82 | Lake Mead R.V. Village, LLC or LMNRA Guest Services, Inc.
Lake Mead National Recreation Area | LAKE005-97 | Rex G. Maughan and Ruth G. Maughan.
Lake Mead National Recreation Area | LAKE006-74 | Las Vegas Boat Harbor, Inc.
Lake Mead National Recreation Area | LAKE009-88 | Temple Bar Marina, LLC or LMNRA Guest Services, Inc.
National Mall and Memorial Parks | NACC003-86 | Guest Services, Inc.

Lena McDowall,
Deputy Director, Management and Administration.

[FR Doc. 2020-19509 Filed 9-2-20; 8:45 am]

BILLING CODE 4312-53-P